DEPARTMENT OF TRANSPORTATION

Federal Aviation Administration

Notice of Intent To Rule on Request To Release Airport Property at the Jeffco Airport, Broomfield, CO

AGENCY: Federal Aviation Administration (FAA), DOT.

ACTION: Notice of request to release airport property.

SUMMARY: The FAA proposes to rule and invite public comment on the release of land at the Jeffco Airport under the provisions of Section 125 of the Wendell H. Ford Aviation Investment Reform Act for the 21st Century (AIR 21).

DATES: Comments must be received on or before May 11, 2006.

ADDRESSES: Comments on this application may be mailed or delivered to the FAA at the following address: Mr. Craig Sparks, Manager, Federal Aviation Administration, Northwest Mountain Region, Airports Division, Denver Airports District Office, 26805 E. 68th Ave., Suite 224, Denver, Colorado 80249.

In addition, one copy of any comments submitted to the FAA must be mailed or delivered to Mr. Kenneth E. Maenpa, Airport Manager, Jeffco Airport, 11755 Airport Way, Terminal Building, Broomfield, Colorado 81021.

FOR FURTHER INFORMATION CONTACT: Ms. Cynthia Nelson, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Jeffco Airport under the provisions of the AIR 21.

On March 27, 2006, the FAA determined that the request to release property submitted by the Jeffco Airport met the procedural requirements of the Federal Aviation Regulations, Part 155. The FAA may approve the request, in whole or in part, no later than June 30, 2006.

The following is a brief overview of the request: The Jeffco Airport requests the release of 1.552 acres of non-aeronautical airport property to the Colorado Department of Transportation. The purpose of this release is to allow the Jeffco Airport to sell the subject land that is needed for a right-of-way for highway intersection improvements. The sale of this parcel will provide funds for airport improvements.

Any person may inspect the request by appointment at the FAA office listed above under FOR FURTHER INFORMATION CONTACT.

In addition, any person may, inspect the application, notice and other documents germane to the application in person at Jeffco Airport, 11755 Airport Way, Terminal Building, Broomfield, Colorado 81021.

Issued in Denver, Colorado, on March 27, 2006.
Craig Sparks,
Manager, Denver Airports District Office.

[FR Doc. 06-3421 Filed 4-10-06; 8:45 am]

BILLING CODE 4910-13-M